ENVIRONMENTAL PROTECTION AGENCY

[FRL-7601-9]

Proposed CERCLA Administrative Cost Recovery Settlement; Broad Brook Mill Superfund Site

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement for recovery of past and future response costs concerning the Broad Brook Mill Superfund Site (previously identified as the Millbrook Condominiums Site) in East Windsor, Connecticut with Hamilton Sundstrand Corporation (“Settling Party”). The settlement requires the Settling Party to pay $322,301.88 in reimbursement of past response costs and pay all future response costs not inconsistent with the National Contingency Plan on a periodic basis to the EPA Hazardous Substance Superfund. The settlement includes a covenant not to sue the Settling Party pursuant to section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the EPA Superfund Records Center, 1 Congress Street, Suite 1100 (HSC), Boston, MA 02114-2023 (Telephone No. 617-918-1440).

DATES: Comments must be submitted on or before January 23, 2004.

ADDRESSES: The proposed settlement is available for public inspection at the EPA Superfund Records Center, 1 Congress Street, Suite 1100 (HSC), Boston, MA 02114-2023, Telephone No. (617) 918-1440. A copy of the proposed settlement may be obtained from Man Chak Ng, Senior Enforcement Counsel, U.S. Environmental Protection Agency, Region 1, 1 Congress Street, Suite 1100 (SES), Boston, MA 02114-2023, Telephone No. (617) 918-1785. Comments should reference the Broad Brook Mill Superfund Site in East Windsor, Connecticut and EPA Docket No. CERCLA-01-2003-0014 and should be addressed to Man Chak Ng, Senior Enforcement Counsel, U.S. Environmental Protection Agency, Region 1, 1 Congress Street, Suite 1100 (SES), Boston, MA 02114-2023.

FOR FURTHER INFORMATION CONTACT: Man Chak Ng, Senior Enforcement Counsel, U.S. Environmental Protection Agency, Region 1, 1 Congress Street, Suite 1100 (SES), Boston, MA 02114-2023.

Dated: December 5, 2003.
Susan Studlien,
Director, Office of Site Remediation and Restoration, EPA Region 1.

[FR Doc. 03-31706 Filed 12-23-03; 8:45 am]

BILLING CODE 6560-50-P